NUCLEAR REGULATORY COMMISSION

[Docket No. 50-188]

Notice of License Renewal Application for Facility Operating License; Kansas State University

Notice is hereby given that the U.S. Nuclear Regulatory Commission (the Commission) has received a license renewal application from the Kansas State University dated September 12, 2002, filed pursuant to section 104c of the Atomic Energy Act of 1954, as amended (the Act), for the necessary license to operate a TRIGA nuclear reactor for an additional 20-year period. The reactor is located at the Kansas State University, Manhattan, Kansas. It is also proposed for operation for educational training and research at a steady state power level of 500 kilowatts, an increase of 250 kilowatts from its previous steady state power level of 250 kilowatts, and with pulse maximum reactivity insertions of $3.00, an increase of $1.00 from its previous limit of $2.00. The acceptability of the tendered application for docketing and other matters, including an opportunity to request a hearing, will be the subject of a subsequent Federal Register notice.

Copies of the application are available for public inspection at the Commission's Public Document Room, located at One White Flint North, 11555 Rockville Pike (first floor), Rockville, Maryland, or electronically from the Publicly Available Records (PARS) component of the NRC's Agencywide Documents Access and Management System (ADAMS). The ADAMS Public Electronic Reading Room is accessible from the NRC Web site, http://www.nrc.gov/NRC/ADAMS/index.html.

If you do not have access to ADAMS, or if there are problems in accessing the documents located in ADAMS, please contact the NRC Public Document Room (PDR) Reference staff at 1-800-397-4209, 301-415-4737 or by e-mail to pdr@nrc.gov.

Dated in Rockville, Maryland, this 4th day of October 2002.
For the Nuclear Regulatory Commission.
Robert L. Dennig,
Acting Program Director, Operating Reactor Improvements Program, Division of Regulatory Improvement Programs, Office of Nuclear Reactor Regulation.

[FR Doc. 02-25992 Filed 10-10-02; 8:45 am]

BILLING CODE 7590-01-P